NUCLEAR REGULATORY COMMISSION

[Docket No. 63-001-HLW;ASLBP No. 09-892-HLW-CAB04]

Establishment of Atomic Safety and Licensing Board; Department of Energy

Pursuant to delegation by the Commission dated December 29, 1972 (37 FR 28,710), and the Commission's regulations, see 10 CFR 2.300 et seq., 2.1000 et seq., notice is hereby given that an Atomic Safety and Licensing Board (Board) is being established in the following case to preside over matters concerning discovery, Licensing Support Network compliance, new or amended contentions, grouping or consolidation of contentions, scheduling, case management matters relating to any of the foregoing, and all other matters the Chief Administrative Judge may assign: U.S Department of Energy, High Level Waste Repository, Construction Authorization Application.

The Board, which shall also be referred to as a Construction Authorization Board 04 (CAB 04) is comprised of the following administrative judges:

Thomas S. Moore, Chair, Atomic Safety and Licensing Board Panel, U.S. Nuclear Regulatory Commission, Washington, DC 20555-0001.

Paul S. Ryerson, Atomic Safety and Licensing Board Panel, U.S. Nuclear Regulatory Commission, Washington, DC 20555-0001.

Richard E. Wardwell, Atomic Safety and Licensing Board Panel, U.S. Nuclear Regulatory Commission, Washington, DC 20555-0001.

Until further order, all pleadings, correspondence, documents, and other materials shall be filed in accordance with the NRC E-Filing rule, which the NRC promulgated in August 2007 (72 FR 49,139).

Issued at Rockville, Maryland, this 19th day of June 2009.
E. Roy Hawkens,
Chief Administrative Judge, Atomic Safety and Licensing Board Panel.

[FR Doc. E9-15119 Filed 6-25-09; 8:45 am]

BILLING CODE 7590-01-P